DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 10, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://fdms.gov.

This notice of receipt of applications for special permit is published in accordance with Part 107 of the Federal hazardous materials transportation law (49 U.S.C. 5117(b); 49 CFR 1.53(b)).

Issued in Washington, DC, on August 4, 2009.
Delmer F. Billings,
Director, Office of Hazardous Materials, Special Permits and Approvals.

Application No. | Docket No. | Applicant | Regulation(s) affected | Nature of special permits thereof
NEW SPECIAL PERMITS
14887-N |  | S.C. Johnson & Sons, Sturtevant, WI | 49 CFR 173.306(a)(3)(v) | To authorize the transportation in commerce of certain aerosols containing a Division 2.2 compressed gas in certain non-refillable aerosol containers which are not subject to the hot water bath test. (mode 1)
14888-N |  | Boost Oxygen LLC, Bridgeport, CT | 49 CFR 173.306(a)(1) | To authorize the transportation in commerce of an 18 ounce capacity DOT 2Q container containing an oxygen mixture as Consumer commodity when transported by motor vehicle. (mode 1)
14889-N |  | Albemarle Corporation, Baton Rouge | 49 CFR 180.605(d) | To authorize the transportation in commerce of certain UN portable tanks that are waived from the requirement to perform an internal examination as part of the intermediate 2.5 year periodic inspection when used exclusively for the transport of certain organometallic substances. (modes 1, 2, 3)
14890-N |  | Liquid Transport Corp., Indianapolis, IN | 49 CFR 180.407(e) and (i) | To authorize the transportation in commerce of certain MC-307 and DOT-407 cargo tank motor vehicles containing certain Class 3 (flammable) materials that have not had internal visual inspections or thickness testing. (mode 1)
14892-N |  | Norris Cylinder Company, Longview, TX | 49 CFR 173.301(a), 173.304a, 180.205(c), (f) and (g) and 180.215 | To authorize the manufacture, marking, sale and use of a non-DOT specification cylinder similar to a DOT 3AA which is authorized a 10 year retest period if qualified by ultrasonic examination. (modes 1, 2, 3, 4, 5)

[FR Doc. E9-19248 Filed 8-10-09; 8:45 am]

BILLING CODE 4909-60-M